DEPARTMENT OF STATE

[Public Notice: 9282]

30-Day Notice of Proposed Information Collection: Exchange Alumni Virtual Program

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments directly to the Office of Management and Budget (OMB) up to October 26, 2015.

ADDRESSES: Direct comments to the Department of State Desk Officer in the Office of Information and Regulatory Affairs at the Office of Management and Budget (OMB). You may submit comments by the following methods:

• Email: oira_submission@omb.eop.gov. You must include the DS form number, information collection title, and the OMB control number in the subject line of your message.

• Fax: 202-395-5806. Attention: Desk Officer for Department of State.

FOR FURTHER INFORMATION CONTACT: Direct requests for additional information regarding the collection listed in this notice, including requests for copies of the proposed collection instrument and supporting documents, to Megan Huber, Bureau of Educational and Cultural Affairs; U.S. Department of State; SA-5, 2200 C Street NW., Washington, DC 20522, who may be reached on 202-632-9487 or at alumni@state.gov.

SUPPLEMENTARY INFORMATION:

• Title of Information Collection: Exchange Alumni Virtual Program.

• OMB Control Number: None.

• Type of Request: New Collection.

• Originating Office: Bureau of Educational and Cultural Affairs, Alumni Affairs Division, ECA/P/A.

• Form Number: DS-7010.

• Respondents: Exchange program alumni of U.S. government-sponsored exchange programs.

• Estimated Number of Respondents: 100.

• Estimated Number of Responses: 100.

• Average Time per Response: Approximately 30 minutes per response.

• Total Estimated Burden Time: 50 hours.

• Frequency: On Occasion.

• Obligation to Respond: Voluntary.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The Exchange Alumni Virtual Program provides a platform for former participants of U.S. government-sponsored exchange programs to extend and multiply the impacts of their exchanges by virtually engaging with foreign alumni and students. The program supports critical foreign policy goals, such as enhancing English learning and the promotion of American culture and values abroad, particularly in countries where views of American culture may not always be positive. The program also provides American alumni with an opportunity to develop their foreign language skills in critical languages or other competencies gained on their exchange programs, while continuing to deepen their own cultural awareness and global skills.

The information is sought pursuant to the Mutual Educational and Cultural Exchange Act of 1961, as amended (also known as the Fulbright-Hays Act) (22 U.S.C. 2451 et seq.)

Respondents to this form are U.S. government-sponsored exchange program alumni. Alumni Affairs collects data from program applicants in order to determine eligibility and to choose the best candidates for the program.

Methodology

Information will be collected electronically, via the International Exchange Alumni Web site, alumni.state.gov.

Dated: September 16, 2015.
Mark Taplin,
Deputy Assistant Secretary, Bureau of Educational and Cultural Affairs, Department of State.

[FR Doc. 2015-24272 Filed 9-23-15; 8:45 am]

BILLING CODE 4710-05-P